DEPARTMENT OF ENERGY

Federal Energy Regulatory Commission

[Docket No. PR02-18-004]

Northern Illinois Gas Company; Notice of Compliance Filing

June 18, 2003.

Take notice that on June 5, 2003, Northern Illinois Gas Company (Nicor) filed a revised copy of its Operating Statement, with an effective date of May 1, 2002.

Nicor states that this filing is being made pursuant to its October 17, 2002, Stipulation and Agreement (Settlement), which was approved by order of the Commission issued April 10, 2003 (103 FERC ¶ 61,031 (2003)) (April 10 Order).

Nicor states that the Settlement approved by the April 10 Order requires Nicor to file, within 30 days of the effective date of the Settlement, a revised Operating Statement to (i) eliminate the $50 minimum daily charge; (ii) remove section 5.14 of the Operating Statement; and (iii) revise section 2.15A to reflect that a shipper will not be charged for confirmed service not actually used, if service is interrupted or curtailed by Nicor.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 2, 2003.

Magalie R. Salas,
Secretary.

[FR Doc. 03-15914 Filed 6-23-03; 8:45 am]

BILLING CODE 6717-01-P